NATIONAL SCIENCE FOUNDATION

Notice of Permit Application Received Under the Antarctic Conservation Act of 1978

AGENCY: National Science Foundation.

ACTION: Notice of Permit Applications received under the Antarctic Conservation Act.

SUMMARY: Notice is hereby given that the National Science Foundation (NSF) has received a waste management permit application for operation of remote field support camps with emergency provisions for the Expedition Vessels, Professor Molchanov, Professor Multanovsiy, M/V Orlove, Akademik Shokalsiy and M/V Sarpik Ittuk for the 2006-2007 season and the two following austral summers. The application is submitted to NSF pursuant to regulations issued under the Antarctic Conservation Act of 1978.

DATES: Interested parties are invited to submit written data, comments, or views with respect to this permit application by October 20, 2006. Permit applications may be inspected by interested parties at the Permit Office, address below.

ADDRESSES: Comments should be addressed to Permit Office, Room 755, Office of Polar Programs, National Science Foundation, 4201 Wilson Boulevard, Arlington, VA 22230.

FOR FURTHER INFORMATION CONTACT: Dr. Polly A. Penhale, Environmental Officer, at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for the operation of expeditions to Antarctica. During each trip, passengers are taken ashore at selected sites by Zodiac (rubber raft) for approximately two to four hours at a time. On each zodiac landing, emergency gear would be taken ashore in case weather deteriorations and passengers are required to camp on shore. Anything taken ashore will be removed from Antarctica and disposed of in Ushuaia, Argentina, Port Stanley, Falkland Islands, or a substitute port of disembarkation. No hazardous domestic products or wastes (aerosol cans, paints, solvents, etc) will be brought ashore. Cooking stoves, fuels will be used only in an emergency where passengers are forced to spend night on shore. Conditions of the permit would include requirements to report on the removal of materials, and any accidential releases, and management of all waste, including human waste, in accordance with Antarctic waste regulations.

Application for the permit is made by: Pat Shaw, President, Quark Expeditions, Inc. 1019 Boston Post Road, Darien, CT 06820.

Location: Antarctica (south of 60 degrees south latitude).

Dates: November 1, 2006 to March 31, 2009.

Nadene G. Kennedy,
Permit Officer.

[FR Doc. 06-7757 Filed 9-19-06; 8:45 am]

BILLING CODE 7555-01-M